NATIONAL AERONAUTICS AND SPACE ADMINISTRATION

14 CFR Part 1260 and 1274

RIN 2700-AC79

NASA Grant and Cooperative Agreement Handbook—Property Reporting

AGENCY: National Aeronautics and Space Administration.

ACTION: Final rule.

SUMMARY: This rule adopts as final the interim rule published in the Federal Register (69 FR 5016) on February 3, 2004, which amended the NASA Grant and Cooperative Agreement Handbook to require earlier submission of annual property inventory reports.

This final rule makes additional changes to reflect the revised reporting date in instructions and one table which were omitted in the interim rule.

EFFECTIVE DATE: July 13, 2004.

FOR FURTHER INFORMATION CONTACT: Paul Brundage, NASA Headquarters, Code HC, Washington, DC, (202) 358-0481, e-mail: paul.d.brundage@nasa.gov.

SUPPLEMENTARY INFORMATION:

A. Background

The Office of Management and Budget has required NASA to complete its annual financial statements sooner. Since recipients maintain NASA's official records for its assets in their possession, NASA uses the data contained in recipients' reports for annual financial statements and property management. As a result, NASA is changing the date for submission of annual Inventory Reports from October 31 to October 15 of each year.

NASA published an interim rule in the Federal Register (69 FR 5016) on February 3, 2004. No public comments were received in response to the interim rule. However, the interim rule failed to revise the property reporting date in sections 1260.74, Property use, disposition, and vesting of title; 1260.75, Summary of Report Requirements; and 1274.933. This final rule revises these dates consistent with the interim rule. This change is consistent with the intent and changes made in the interim rule and therefore, publication for public comment is not considered necessary.

This final rule is not a significant regulatory action, and therefore, was not subject to review under Section 6(b) of Executive Order 12866, Regulatory Planning and Review, dated September 30, 1993. This final rule is not a major rule under 5 U.S.C. 804.

B. Regulatory Flexibility Act

NASA certifies that this final rule will not have a significant economic impact on a substantial number of small entities within the meaning of the Regulatory Flexibility Act, 5 U.S.C. 601 et seq., because it requires no additional work.

C. Paperwork Reduction Act

The Paperwork Reduction Act does not apply because this final rule does not impose any new recordkeeping or information collection requirements, or collection of information from offerors, contractors, or members of the public that require the approval of the Office of Management (OMB) and Budget under 44 U.S.C. 3501, et. seq.

List of Subjects in CFR Parts 1260 and 1274

Grant Programs—Science and Technology.

Tom Luedtke,
Assistant Administrator for Procurement.

Interim Rule Adopted as Final With Changes

Accordingly, the interim rule amending 14 CFR parts 1260 and 1274 which was published at 69 FR 5016 on February 3, 2004, is adopted as a final rule with the following changes:

PART 1260—GRANTS AND COOPERATIVE AGREEMENTS

1. The authority citation for 14 CFR Part 1260 continues to read as follows:

Authority: 42 U.S.C. 2473(c)(1), Pub. L. 97-258, 96 Stat. 1003 (31 U.S.C. 6301, et seq.), and OMB Circular A-110.

2. In §1260.74 revise paragraph (b)(2)(vii) to read as follows:

§ 1260.74 Property use, disposition, and vesting of title.

* * * * *

(b) * * *

(2) * * *

(vii) Recipients shall submit annually a NASA Form 1018, NASA Property in the Custody of Contractors, in accordance with the instructions on the form, the provisions of 48 CFR (NFS) 1845.71 and any supplemental instructions that may be issued by NASA for the current reporting period. The original NF 1018 shall be submitted to the center Deputy Chief Financial Officer, Finance, with three copies sent concurrently to the center industrial property officer. The annual reporting period shall be from October 1 of each year through September 30 of the following year. The report shall be submitted in time to be received by October 15. Negative reports (i.e. no reportable property) are required. The information contained in the reports is entered into the NASA accounting system to reflect current asset values for agency financial statement purposes. Therefore, it is essential that required reports be received no later than October 15. A final report is required within 30 days after expiration of the agreement.

* * * * *

3. In section 1260.75 revise paragraph (b)(12) to read as follows:

§ 1260.75 Summary of report requirements.

* * * * *

(b) * * *

(12) An Annual NASA Form 1018, NASA Property in the Custody of Contractors, is required for all grants and cooperative agreements with commercial organizations. The reports are due October 15th of each year. Negative reports (i.e. no reportable property) are required.

* * * * *

PART 1274—COOPERATIVE AGREEMENTS WITH COMMERCIAL FIRMS

4. The authority citation for 14 CFR Part 1274 continues to read as follows:

Authority: 42 U.S.C. 2451, et seq. and 31 U.S.C. 6301 to 6308.

5. In section 1274.933 revise the date of the provision to read “July 2004,” and in the table for the report titled “NASA Form 1018 Property in the Custody of Contractors” revise the second column entry (Frequency) by removing “October 31” and adding “October 15” in its place.

[FR Doc. 04-15734 Filed 7-12-04; 8:45 am]

BILLING CODE 7510-01-P